DEPARTMENT OF HEALTH AND HUMAN SERVICES

Indian Health Service

Privacy Act System of Records Notice 09-17-0001, “Medical, Health and Billing Records”: Correction

AGENCY: Indian Health Service (IHS), HHS.

ACTION: Notice: correction.

SUMMARY: The Indian Health Service published a document in the Federal Register on December 30, 2005. The document contained an error.

FOR FURTHER INFORMATION CONTACT: Contact Ms. Patricia Gowan, IHS Lead Health Information Management (HIM) Consultant (Acting), Office of Health Programs, Phoenix Area Office IHS, Two Renaissance Square, Suite 606, 40 North Central Avenue, Phoenix, AZ 85004 or via the Internet at Patricia.Gowan@ihs.gov.

Correction

In the Federal Register of December 30, 2005, in FR Doc 05-24644, on page 77407, in the second column, correct number 5 to read: “Records may be disclosed to the Bureau of Indian Affairs (BIA) or its contractors under an agreement between IHS and the BIA relating to disabled AI/AN children for the purposes of carrying out its functions under the Individuals with Disabilities Education Act (IDEAS), 20 U.S.C. 1400, et seq.”

Re-number 5 to number 6 and so forth for a total of twenty-four routine uses instead of twenty-three.

Dated: February 2, 2006.
Robert G. McSwain,
Deputy Director, Indian Health Service.

[FR Doc. 06-1188 Filed 2-8-06; 8:45 am]

BILLING CODE 4165-16-M